DEPARTMENT OF AGRICULTURE

Commodity Credit Corporation

Information Collection, Procurement of Agricultural Commodities for Foreign Donation

AGENCY: Commodity Credit Corporation, USDA

ACTION: Notice; request for comments.

SUMMARY: In accordance with the Paperwork Reduction Act of 1995, the Commodity Credit Corporation (CCC) is requesting comments from all interested individuals and organizations on an extension of a currently approved information collection associated with procurement of agricultural commodities for foreign donation. The Kansas City Commodity Office (KCCO) issues a public invitation soliciting bids for the sale of commodities and requests ocean carrier provide indications of available freight rates to KCCO using the Freight Bid Entry System (FBES). Use of this system enhances bidding opportunities for potential vendors while allowing CCC to efficiently acquire commodities.

DATES: Comments on this notice must be received on or before May 28, 2010 to be assured consideration.

ADDRESSES: We invite you to submit comments on this notice. In your comments, include date, volume and page number of this issue of the Federal Register. You may submit comments by any of the following methods:

Mail: Sharon Hadder, Farm Service Agency, Commodity Operations, Stop 0550, 1400 Independence Ave., SW., Washington, DC 20250.

E-mail: Send comment to: Sharon.Hadder@usda.gov.

Fax: (202) 690-1809.

Comments also should be sent to the Desk Officer for Agriculture, Office of Information and Regulatory Affairs, Office of Management and Budget, Washington, DC 20503. Copies of the information collection may be obtained from Sharon Hadder at the above address.

FOR FURTHER INFORMATION CONTACT: Sharon Hadder, Agricultural Marketing Specialist, telephone (202) 720-3816.

SUPPLEMENTARY INFORMATION:

Title: Procurement of Agricultural Commodities for Foreign Donation.

OMB Number: 0560-0258.

Expiration Date: May 31, 2010.

Type of Request: Extension of a currently approved information collection.

Abstract: The United States donates agricultural commodities overseas to meet famine or other relief requirements, to combat malnutrition, and sells or donates commodities to promote economic development.

To accommodate these donations, CCC issues invitations to purchase agricultural commodities and services, such as transportation, for use in international programs. Ocean transportation contracting is done by the Cooperating Sponsors or Private Volunteer Organizations (PVOs) (grantee organizations or foreign governments receiving the commodities) or the United States Agency for International Development (USAID) in the case of some Title II, Public Law 480 shipments. KCCO evaluates commodity bids together with the freight rate indications to identify the combination which most likely results in the lowest-landed cost, i.e., the lowest combined cost of commodities and freight to destination.

Vendors bid for ocean freight by making offers using FBES to place bids electronically. Vendors can access FBES on-line to see the date/time the system shows for receipt of bid, bid modification, or bid cancellation. At bid opening date/time, the bids submitted through FBES are system evaluated. KCCO then awards commodity bids on the basis of lowest landed cost by a comparison with offered freight rates and notifies the Cooperating Sponsor or PVO of the bid accepted. Awarded contracts are posted on our Web site.

The KCCO is currently using the FBES. Use of this system enhances bidding opportunities for potential vendors while allowing CCC to more efficiently acquire commodities. The Web-Based Supply Chain System (WBSCM) is a new procurement system in development to eliminate the need for FBES and to replace the other current systems for several USDA agencies, and the USAID. The OMB approval will expire on May 31, 2010, and WBSCM will be released on June 30, 2010. Upon release of WBSCM, this information collection request (ICR) will be discontinued but it will be covered in the Federal Acquisition Regulation as specified in the OMB control number 9000-0034 (SF-33, SF-26, SF-1447) to cover the bid-related information in the system. CCC is requesting to extend approval until August 31, 2010, and it may merge with OMB Control Number 0560-0177, WBSCM.

Estimate of Average time to Respond: 16 minutes.

Respondents: Steamship lines and/or their agents.

Estimated Number of Respondents: 15.

Estimated Number of Responses per Respondent: 8.

Estimated Number of Responses: 120.

Estimated Total Annual Burden on Respondents: 24.

We are requesting comments on all aspects of this information collection and to help us to:

(1) Evaluate whether the collection of information is necessary for the proper performance of the functions of the agency, including whether the information will have practical utility;

(2) Evaluate the accuracy of the agency's estimate of burden including the validity of the methodology and assumptions used;

(3) Enhance the quality, utility and clarity of the information to be collected; and

(4) Minimize the burden of the collection of information on those who are to respond, including through the use of appropriate automated, electronic, mechanical, or other technological collection techniques or other forms of information technology.

All comments to this notice will be summarized and included in the request for OMB approval. All comments will also become a matter of public record.

Signed at Washington, DC on March 18, 2010.
Jonathon W. Coppess,
Executive Vice President, Commodity Credit Corporation.

[FR Doc. 2010-6820 Filed 3-26-10; 8:45 am]

BILLING CODE 3410-05-P